DEPARTMENT OF THE INTERIOR

Fish and Wildlife Service

[Docket No. FWS-R8-ES-2020-0073; FXES11120800000-201-FF08E00000]

Sierra Pacific Industries Final Habitat Conservation Plan for Northern and California Spotted Owl and Final Environmental Impact Statement; Klamath, Cascade, and Sierra Nevada Mountains, CA

AGENCY: Fish and Wildlife Service, Interior.

ACTION: Notice of availability of final environmental impact statement and final habitat conservation plan.

SUMMARY: We, the U.S. Fish and Wildlife Service (Service), announce the availability of a final environmental impact statement (EIS) under the National Environmental Policy Act. We also announce the availability of the final Habitat Conservation Plan for the Northern and California Spotted Owl (HCP). The documents were prepared in support of an application for an incidental take permit (ITP) under the Endangered Species Act (ESA). We will use these documents to inform our decision regarding issuance of the permit.

DATES: This notice makes available the final EIS. A record of decision will be signed no sooner than 30 days after the publication of this notice in the Federal Register.

ADDRESSES: Obtaining Documents: You may obtain copies of the final EIS and HCP in Docket No. FWS-R8-ES-2020-0073 at http://www.regulations.gov.

FOR FURTHER INFORMATION CONTACT: Kim S. Turner, Deputy Assistant Field Supervisor, by phone at 916-414-6600; via the Federal Information Relay Service at 800-877-8339; or via U.S. mail to U.S. Fish and Wildlife Service, 2800 Cottage Way, Suite 2605, Sacramento, CA 95825.

SUPPLEMENTARY INFORMATION: We, the U.S. Fish and Wildlife Service (Service), received an application submitted by Sierra Pacific Industries of Anderson, California (Applicant), for an incidental take permit under section 10(a)(1)(B) of the Endangered Species Act, as amended (16 U.S.C. 1531 et seq.), along with a habitat conservation plan to support the ITP application. We are making the ITP application, HCP, and final environmental impact statement available for public comment. The final EIS analyzes the impacts of a issuing an ITP under the Endangered Species Act for implementation of the HCP for Northern and California Spotted Owl.

Habitat Conservation Plan

The proposed ITP would cover two bird subspecies, the northern spotted owl (Strix occidentalis caurina), which is federally listed as threatened, and the California spotted owl (Strix occidentalis occidentalis), which is not federally listed.

The HCP covers forest management, species management, and monitoring activities on commercial timberland in Amador, Butte, Calaveras, El Dorado, Lassen, Modoc, Nevada, Placer, Plumas, Shasta, Sierra, Siskiyou, Tehama, Trinity, Tuolumne, and Yuba Counties, California. The HCP area encompasses 1,565,707 acres of commercial timberland in these counties.

The HCP proposes conservation measures considered necessary to minimize and mitigate the impacts, to the maximum extent practicable, of the potential taking of federally listed species to be covered by the HCP.

Final Environmental Impact Statement

The EIS was developed in compliance with the Service's decision-making requirements under the National Environmental Policy Act (NEPA; 42 U.S.C. 4321 et seq.) and analyzes several alternatives, including the proposed action alternative involving implementation of the HCP submitted by the applicant.

The EIS analyzes the direct, indirect, and cumulative impacts of several land management alternatives related to the Service's decision whether to issue an ITP in response to the SPI's application.

Background

Section 9 of the ESA prohibits the “take” of fish and wildlife species federally listed as endangered; by regulation, the Service has extended the take prohibitions to certain species listed as threatened. Take of federally listed fish or wildlife is defined under the ESA as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3). Under limited circumstances, we may issue permits to authorize incidental take that is incidental to and not the purpose of, otherwise lawful activities.

National Environmental Policy Act Compliance

The EIS analyzes three land management alternatives. These include a “no action” alternative, under which the current management practices would be assumed to continue as guided by the California Forest Practice Rules. The proposed action consists of a two-subspecies HCP and associated permit with a 50-year term. One other “action” alternative is included. The Northwest Forest Plan (NWFP)/Sierra Nevada Forest Plan (SNFPA) Alternative (NWFP/SNFPA alternative) proposes the development of a different two-subspecies HCP that would manage known and suspected nest stands according to the NWFP within the range of the NSO and the SNFPA within the range of the CSO.

EPA's Role in the EIS Process

In addition to this notice, the Environmental Protection Agency (EPA) is publishing a notice in the Federal Register announcing this EIS, as required under section 309 of the Clean Air Act. The publication date of EPA's notice of availability is the official beginning of the public comment period. EPA's notices are published on Fridays.

EPA serves as the repository (EIS database) for EISs prepared by Federal agencies. All EISs must be filed with EPA. You may search for EPA comments on EISs, along with EISs themselves, at https://cdxnodengn.epa.gov/cdx-enepa-public/action/eis/search.

Public Review

Any comments we receive will become part of the decision record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

Issuance of an ITP is a Federal proposed action subject to compliance with NEPA. We will evaluate the application, associated documents, and the public comments we receive to determine whether the requirements of the NEPA regulations and section 10(a) of the ESA have been met. If we determine that those requirements are met, we will issue a record of decision no sooner than 30 days after the EPA publishes notice of the final EIS in the Federal Register and will issue a permit to the applicant for the incidental take of the covered species.

Authority

We provide this notice under section 10(c) of the ESA (16 U.S.C. 1531 et seq.) and its implementing regulations (50 CFR 17.32), and NEPA (42 U.S.C. 4321 et seq.) and NEPA implementing regulations (40 CFR 1506.6).

Daniel Cox,
Acting Assistant Regional Director, California-Great Basin Region, Sacramento, California.

[FR Doc. 2020-16505 Filed 7-30-20; 8:45 am]

BILLING CODE 4333-15-P